NUCLEAR REGULATORY COMMISSION

[Docket No. 70-03073, License No. SNM-1999]

Kerr-McGee Corporation; Notice of Termination of Kerr-McGee Cushing Site Special Nuclear Materials License No. SNM-1999

AGENCY: Nuclear Regulatory Commission (NRC).

ACTION: Notice of Termination of the Kerr-McGee Corporation (Kerr-McGee) Cushing Site Special Nuclear Materials (SNM) License, No. SNM-1999.

SUMMARY: The U.S. Nuclear Regulatory Commission (NRC) is noticing the termination of the Kerr-McGee Cushing Site SNM License, No. SNM-1999 (NRC Docket No. 70-03073), located in Cushing, Oklahoma.

Background: The NRC granted SNM License SNM-1999 to Kerr-McGee for the Cushing site on April 6, 1993. The license authorized possession of uranium and thorium onsite in concentrations above background levels. The license enabled Kerr-McGee to possess contaminated soil, sludge, sediment, trash, building rubble, structures, and any other contaminated material at the Cushing site during remediation and disposal activities.

Kerr-McGee remediated the site under a consent order with the Oklahoma Department of Environmental Quality. Kerr-McGee submitted its Decommissioning Plan (DP) on August 17, 1998, and NRC approved the DP on August 20, 1999. The licensee conducted decommissioning activities at the Cushing site in accordance with the approved DP from January 2000 to June 2005. In accordance with the DP, the licensee conducted final status surveys (FSSs) to demonstrate that the facility and site meet the criteria for unrestricted release as stated in Condition 11(N) of SNM-1999. Details of the FSS results were submitted to the NRC in 15 separate FSS reports (FSSRs). Kerr-McGee also submitted a dose assessment demonstrating that the post remediation conditions at the site meet the unrestricted release criteria of 10 CFR part 20, subpart E. Kerr-McGee submitted a request for termination of its SNM License on June 15, 2005 (ML051680329), with revisions on May 11, 2006 (ML061380781).

NRC conducted a number of independent confirmatory surveys to verify FSS results obtained and reported by the licensee. Confirmatory surveys consisted of surface scans for beta and gamma radiation, direct measurements for total beta activity, collection of smear samples for determining removable radioactivity levels, and collection and analysis of soil samples.

The Commission has concluded, based on the considerations discussed above, that: (i) The remaining dismantlement has been performed in accordance with the approved DP; (ii) The FSS and associated documentation demonstrate that the Cushing site meet the criteria for decommissioning and release of the site for unrestricted use that are stipulated in Condition 11(N) of SNM-1999. Further, FSSs demonstrated that the post-remediation condition of the site results in a dose less than the 25 mrem (millirem)/year (yr) unrestricted release criteria of 10 CFR part 20, subpart E; and (iii) Kerr-McGee has met the Part 70 requirements for forwarding of specific records to NRC prior to license termination. Therefore, the Commission is terminating SNM License No. SNM-1999.

FOR FURTHER INFORMATION CONTACT: See the application dated June 15, 2005, with revisions on May 11, 2006, and the Safety Evaluation Report dated May 18, 2006, available for public inspection at the Commission's Public Document Room (PDR), located at One White Flint North, Public File Area O1 F21, 11555 Rockville Pike (first floor), Rockville, Maryland. Publicly available records will be accessible electronically from the Agency-wide Documents Access and Management System's (ADAMS) Public Electronic Reading Room on the Internet at the NRC Web site, http://www.nrc.gov/reading-rm/adams.html (ADAMS Accession Nos. ML051680329, ML061380781, and ML060960070).

Persons who do not have access to ADAMS or who encounter problems in accessing the documents located in ADAMS, should contact the NRC PDR Reference staff by telephone at 1-800-397-4209, 301-415-4737 or by e-mail to pdr@nrc.gov.

Dated at Rockville, Maryland this 18th day of May, 2006.
For the Nuclear Regulatory Commission.
Daniel M. Gillen,
Deputy Director, Decommissioning Directorate, Division of Waste Management and Environmental Protection, Office of Nuclear Material Safety and Safeguards.

[FR Doc. E6-8274 Filed 5-26-06; 8:45 am]

BILLING CODE 7590-01-P